ENVIRONMENTAL PROTECTION AGENCY

[OPPTS-2002-0019; FRL-7185-5]

Access to Confidential Business Information by Novus Consulting Group

AGENCY: Environmental Protection Agency (EPA).

ACTION: Notice.

SUMMARY: EPA has authorized Novus Consulting Group of Manassas, VA access to information which has been submitted to EPA under all sections of the Toxic Substances Control Act (TSCA). Some of the information may be claimed or determined to be Confidential Business Information (CBI).

DATES: Access to the confidential data submitted to EPA under all sections of TSCA occurred as a result of an approved waiver dated May 21, 2002, which requested granting Novus Consulting Group immediate access to all sections of TSCA CBI.

FOR FURTHER INFORMATION CONTACT: Barbara A. Cunningham, Acting Director, Environmental Assistance Division (7408M), Office of Pollution Prevention and Toxics, Environmental Protection Agency, 1200 Pennsylvania Ave., NW., Washington, DC 20460; telephone number: (202) 554-1404; e-mail address: TSCA-Hotline@epamail.epa.gov.

SUPPLEMENTARY INFORMATION:

I. Does this Notice Apply to Me?

This action is directed to the public in general. This action may, however, be of interest to those persons who are or may be required to conduct testing of chemical substances under the Toxic Substances Control Act (TSCA). Since other entities may also be interested, the Agency has not attempted to describe all the specific entities that may be affected by this action. If you have any questions regarding the applicability of this action to a particular entity, consult the person listed under FOR FURTHER INFORMATION CONTACT.

II. How Can I Get Additional Information, Including Copies of this Document or Other Related Documents?

You may obtain electronic copies of this document, and certain other related documents that might be available electronically, from the EPA Internet Home Page at http://www.epa.gov/. To access this document, on the Home Page select “Laws and Regulations,” “Regulations and Proposed Rules,” and then look up the entry for this document under the “Federal Register—Environmental Documents.” You can also go directly to the Federal Register listings at http://www.epa.gov/fedrgstr/.

III. What Action is the Agency Taking?

Under contract number GS-35F-4120D, Novus Consulting Group of 7221 Gateway Court, Manassas, VA, will assist the Office of Pollution Prevention and Toxics (OPPT) in conducting a disaster recovery assessment of the OPPT systems operation and back-up storage process. They will also be reviewing the current process in place for recovering information stored and backed up on the Administrative and CBI LAN.

In accordance with 40 CFR 2.306(j), EPA has determined that under EPA contract number GS-35F-4120D, Novus Consulting Group will require access to CBI submitted to EPA under all sections of TSCA, to perform successfully the duties specified under the contract.

Novus Consulting Group's personnel was given access to information submitted to EPA under all sections of TSCA. Some of the information may be claimed or determined to be CBI.

EPA is issuing this notice to inform all submitters of information under all sections of TSCA, that the Agency may provide Novus Consulting Group access to these CBI materials on a need-to-know basis only. All access to TSCA CBI under this contract will take place at EPA Headquarters.

Novus Consulting Group will be required to adhere to all provisions of EPA's TSCA Confidential Business Information Security Manual.

Clearance for access to TSCA CBI under this contract may continue until September 30, 2002.

Novus Consulting Group personnel will be required to sign nondisclosure agreements and will be briefed on appropriate security procedures before they are permitted access to TSCA CBI.

List of Subjects

Environmental protection, Confidential business information.

Dated: July 1, 2002.
Allan A. Abramson,
Director, Information Management Division, Office of Pollution Prevention and Toxics.

[FR Doc. 02-17192 Filed 7-9-02; 8:45 am]

BILLING CODE 6560-50-S